Proclamation 10693 of December 29, 2023

National Human Trafficking Prevention Month, 2024

By the President of the United States of America

A Proclamation

More than 27 million people around the world endure the abhorrent abuse of human trafficking and forced labor, including thousands of people right here in the United States. It is a threat to global security, public safety, and human dignity. During National Human Trafficking Prevention Month, we reaffirm our commitment to ending these predatory crimes at home and across the globe.

In 2021, I signed an updated National Action Plan to Combat Human Trafficking, outlining my Administration's efforts to prevent trafficking, prosecute perpetrators, and protect survivors. The plan reflects our commitment to standing up for the most vulnerable among us, and it is a foundation for our work to ensure safe, orderly, and humane migration. Federal agencies are today working closely with governments and organizations around the world to address the root causes of trafficking, bring traffickers to justice, and support survivors as they recover and rebuild their lives.

The plan also reflects our commitment to workers' rights and ending forced labor in global supply chains. Two years ago, I signed the bipartisan Uyghur Forced Labor Prevention Act, and we will continue working with global leaders to make sure that American imports are produced without forced labor and that the global economic system offers traffickers no safe harbor. More recently, I issued a first-ever Presidential Memorandum elevating and integrating workers' rights and high labor standards into our Nation's foreign policy priorities, including preventing forced labor and other abuses.

The vast majority of human trafficking victims are women and girls. In 2022, we reauthorized the Violence Against Women Act, which I first wrote as a United States Senator some 30 years ago—this time expanding the jurisdiction of Tribal courts to prosecute non-Native American sex traffickers. The American Rescue Plan also provided tens of thousands of housing vouchers to help people fleeing domestic violence or human trafficking find a safe home and reclaim their lives. As we work to help people disproportionately affected by human trafficking, including members of racial and ethnic minorities, women and girls, the LGBTQI+ community, and migrants, we remain committed to learning from and partnering with survivors to support their recoveries and to recruit their help in better spotting and preventing these too often overlooked crimes.

There is no greater sin than the abuse of power, and human trafficking is among the worst abuses that exist. We must each play a role in ending it; we cannot turn away. This month, we urge every American to learn how to identify the signs of trafficking and to share the National Human Trafficking hotline (888-373-7888)—an important resource to report a tip or to ask for help. Together, we must make sure every human being is free to live a life full of dignity and respect.

NOW, THEREFORE, I, JOSEPH R. BIDEN JR., President of the United States of America, by virtue of the authority vested in me by the Constitution and the laws of the United States, do hereby proclaim January 2024 as National Human Trafficking Prevention Month. I call upon businesses, civil society organizations, communities of faith, families, and all Americans to recognize the vital role we play in combating human trafficking and to observe this month with appropriate programs and activities aimed at preventing all forms of human trafficking.

IN WITNESS WHEREOF, I have hereunto set my hand this twenty-ninth day of December, in the year of our Lord two thousand twenty-three, and of the Independence of the United States of America the two hundred and forty-eighth.

[FR Doc. 2024-00052

Filed 1-3-24; 8:45 am]

Billing code 3395-F4-P